CONSUMER PRODUCT SAFETY COMMISSION

Submission for OMB Review; Comment Request—Consumer Focus Groups

AGENCY: Consumer Product Safety Commission.

ACTION: Notice.

SUMMARY: On January 18, 2007, the Consumer Product Safety Commission (CPSC or Commission) published a notice in accordance with provisions of the Paperwork Reduction Act of 1995 (44 U.S.C. Chapter 35) (PRA), to announce the agency's intention to seek approval for a collection of information to be conducted through Consumer Focus Groups. 72 FR 2264. The Commission now announces that it is submitting to the Office of Management and Budget (OMB) a request for approval of that collection of information.

The Commission received two comments. Both commenters, Safe Kids Worldwide (Safe Kids) and Carol Pollack-Nelson, supported the collection of information because it would inform the Commission's plans in the areas of public education, recall effectiveness, product research and voluntary standards development. Safe Kids requested that a special emphasis be placed on children's products. Safe Kids also requested that the focus groups and any subsequent reports resulting from the focus groups be made available to the public. Staff is currently developing the format for specific focus groups and will evaluate whether making such focus groups and any resulting reports public may be useful after the program is fully operational.

The information collected from the Consumer Focus Groups will help inform the Commission's evaluation of consumer products and product use by providing insight and information into consumer perceptions and usage patterns. Such information may also assist the Commission in its efforts to support voluntary standards activities, and help the staff identify areas regarding consumer safety issues that need additional research. In addition, based on the information obtained, the staff may be able to provide safety information to the public that is easier to read and is more easily understood by a wider range of consumers. The Consumer Focus Groups also may be used to solicit consumer opinions and feedback regarding the effectiveness of product recall communications and in determining what action is being taken by consumers in response to such communications and why. This may aid in tailoring future recall activities to increase the success of those activities. If this information is not collected, the Commission may not have available certain useful information regarding consumer experiences, opinions, and perceptions related to specific product use, which the Commission uses, in part, in its ongoing efforts to improve the safety of consumer products on behalf of consumers.

Additional Information About the Request for Approval of a Collection of Information

Agency address: Consumer Product Safety Commission, 4330 East West Highway, Bethesda, MD 20814.

Title of information collection: Consumer Focus Groups.

Type of request: Approval of collection of information.

General description of respondents: Persons who have purchased or used consumer products including recalled products.

Estimated annual number of respondents: 48.

Estimated average number of hours per respondent: 4 per year.

Estimated number of hours for all respondents: 192 per year.

Estimated cost per hour to respond: $26.86.

Estimated cost of collection for all respondents: $5,517.

Comments: Comments on this request for approval of information collection requirements should be captioned “Consumer Focus Groups” and submitted by May 25, 2007 to (1) the Office of Information and Regulatory Affairs, Attn: OMB Desk Officer for CPSC, Office of Management and Budget, Washington D.C. 20503; telephone: (202) 395-7340, and (2) to the Office of the Secretary by e-mail at cpsc-os@cpsc.gov, or mailed to the Office of the Secretary, Consumer Product Safety Commission, 4330 East West Highway, Bethesda, MD 20814. Comments may also be sent via facsimile at (301) 504-0127.

Copies of this request for approval of information collection requirements and supporting documentation are available from Linda Glatz, Division of Policy and Planning, Office of Information Technology and Technology Services, Consumer Product Safety Commission, 4330 East West Highway, Bethesda, MD 20814; telephone: (301) 504-7671.

Dated: April 19, 2007.
Todd A. Stevenson,
Secretary, Consumer Product Safety Commission.

[FR Doc. E7-7811 Filed 4-24-07; 8:45 am]

BILLING CODE 6355-01-P